INTERNATIONAL TRADE COMMISSION

[USITC SE-12-027]

Government in the Sunshine Act Meeting Notice

AGENCY HOLDING THE MEETING: United States International Trade Commission.

TIME AND DATE: October 11, 2012 at 9:30 a.m.

PLACE: Room 101, 500 E Street SW., Washington, DC 20436, Telephone: (202) 205-2000.

STATUS: Open to the public.

MATTERS TO BE CONSIDERED:

1. Agendas for future meetings: none

2. Minutes

3. Ratification List

4. Vote in Inv. Nos. 731-TA-671-673 (Third Review) (Silicomanganese from Brazil, China, and Ukraine). The Commission is currently scheduled to transmit its determinations and Commissioners' opinions to the Secretary of Commerce on or before October 24, 2012.

5. Outstanding action jackets: none

In accordance with Commission policy, subject matter listed above, not disposed of at the scheduled meeting, may be carried over to the agenda of the following meeting.

By order of the Commission.
Issued: October 2, 2012.
William R. Bishop,
Hearings and Meetings Coordinator.

[FR Doc. 2012-24583 Filed 10-2-12; 11:15 am]

BILLING CODE 7020-02-P